DEPARTMENT OF COMMERCE

National Oceanic and Atmospheric Administration

National Estuarine Research Reserve System

AGENCY: Stewardship Division, Office for Coastal Management, National Ocean Service, National Oceanic and Atmospheric Administration, U.S. Department of Commerce.

ACTION: Notice of approval for the San Francisco Bay National Estuarine Research Reserve Management Plan revision.

SUMMARY: Under applicable Federal regulations, notice is hereby given that the Stewardship Division, Office for Coastal Management, National Ocean Service, National Oceanic and Atmospheric Administration, U.S. Department of Commerce approves the revised Management Plan for San Francisco Bay, California National Estuarine Research Reserve Management Plan. In accordance with applicable Federal regulations, the San Francisco Bay Reserve revised its Management Plan, which will replace the plan previously approved in 2011.

FOR FURTHER INFORMATION CONTACT: Bree Turner (Phone: 206-526-4641, Email: Bree.Turner@noaa.gov) or Erica Seiden (Phone: 240-533-0781) of NOAA's National Ocean Service, Stewardship Division, Office for Coastal Management, 1305 East-West Highway, N/ORM5, 10th floor, Silver Spring, MD 20910.

SUPPLEMENTARY INFORMATION: The revised Management Plan outlines the administrative structure; the research/monitoring, stewardship, education, and training programs of the Reserve; and the plans for future land acquisition and facility development to support Reserve operations.

The San Francisco Bay Reserve takes an integrated approach to management, linking research, education, coastal training, and stewardship functions. The Reserve has outlined how it will manage administration and its core program providing detailed actions that will enable it to accomplish specific goals and objectives. Since the last Management Plan, the Reserve has built out its core programs and monitoring infrastructure; conducted an educational market analysis and needs assessment to better meet teacher needs and underserved audiences; developed resource management and restoration management plans; and expanded the coastal training program through development of a five year strategy and partnership with the on-site wetland science program.

On December 21, 2017, NOAA issued a notice of a thirty day public comment period for the San Francisco Bay Reserve revised plan (82 FR 60588). Responses to the written and oral comments received, and an explanation of how comments were incorporated into the final revised plan, are available in Appendix G of the revised plan.

The revised Management Plan will serve as the guiding document for the 3,710 acre San Francisco Bay Reserve. View the San Francisco Bay, California Reserve Management Plan at http://www.sfbaynerr.org/resource-library/reserve-plans-reports/sf-bay-final-management-plan-2018-2023/.

The revised management plan does not make substantial changes that are relevant to environmental concerns and does not raise significant new circumstances or information that may lead to new or different environmental impacts. It does not propose new construction, land acquisition, or changes in allowable or restricted uses. As such, the initial Environmental Impact Statement (EIS) prepared at the time of designation is still valid and supplementation of the EIS is not required. NOAA has made the determination that the revision of the management plan will not have a significant effect on the human environment and qualifies for a categorical exclusion under NOAA Administrative Order 216-6A and the NOAA NEPA Companion Manual. An environmental assessment will not be prepared. Any specific actions that NOAA may fund or carry out in the future pursuant to this management plan will be subject to future NEPA and environmental review, as applicable.

Authority: 15 CFR 921.33.

Dated: March 4, 2019.
Keelin Kuipers,
Deputy Director, Office for Coastal Management, National Ocean Service, National Oceanic and Atmospheric Administration.

[FR Doc. 2019-04419 Filed 3-11-19; 8:45 am]

BILLING CODE 3510-08-P